DEPARTMENT OF HOMELAND SECURITY

[Docket No. DHS-2023-0018]

Faith-Based Security Advisory Council

AGENCY: Office of Partnership and Engagement (OPE), Department of Homeland Security (DHS).

ACTION: Notice of public meeting of the Faith-Based Security Advisory Council (FBSAC).

SUMMARY: The Faith-Based Security Advisory Council (FBSAC) will hold a public meeting on Tuesday, June 6, 2023. The meeting will be open to the public via web conference.

DATES: The meeting will take place from 10 a.m. ET to 12 p.m. ET on Tuesday, June 6, 2023. Please note that the meeting may end early if the Council has completed its business.

ADDRESSES: The FBSAC meeting location will be the United States Coast Guard Headquarters, Ray Evans Conference Room B. Members of the public interested in participating may do so by following the process outlined below. The public will be in listen-only mode except for the public comment portions of the meeting.

To ensure your comments are received by the Council members before the meeting, submit your written comments no later than June 5, 2023. Comments must be identified by Docket No. DHS-2023-0018 and may be submitted by one of the following methods:

• Federal eRulemaking Portal: http://www.regulations.gov. Follow the instructions for submitting comments.

• Email: FBSAC@hq.dhs.gov. Include Docket No. DHS-2023-0018 in the subject line of the message.

• Mail: Sameer Hossain, Designated Federal Officer of the Faith-Based Security Advisory Council, Office of Partnership and Engagement, Mailstop 0385, Department of Homeland Security, 2707 Martin Luther King Jr., Ave. SE, Washington, DC 20528.

The FBSAC is committed to ensuring that all participants have equal access regardless of disability status. If you require a reasonable accommodation due to a disability to fully participate, please contact Mr. Sameer Hossain at 202-891-2876.

Instructions: All submissions received must include the words “Department of Homeland Security” and “DHS-2023-0018,” the docket number for this action. Comments received will be posted without alteration at http://www.regulations.gov, including any personal information provided. You may wish to review the Privacy and Security Notice found via a link on the homepage of www.regulations.gov.

Docket: For access to the docket to read comments received by the Council, go to http://www.regulations.gov, search “DHS-2023-0018,” “Open Docket Folder” to view the comments.

FOR FURTHER INFORMATION CONTACT: Sameer Hossain, Designated Federal Officer, Faith-Based Security Advisory Council, Office of Partnership and Engagement, U.S. Department of Homeland Security at FBSAC@hq.dhs.gov or 202-891-2876.

SUPPLEMENTARY INFORMATION: Notice of this meeting is in compliance with the Federal Advisory Committee Act, (Pub. L. 117-286, 5 U.S.C. ch. 10). The Committee operates under the provisions of the Federal Advisory Committee Act.

The FBSAC provides organizationally independent, strategic, timely, specific, and actionable advice to the Secretary through the Assistant Secretary for OPE, who serves as the DHS Faith-Based Organizations Security Coordinator on security and preparedness matters related to places of worship, faith communities, and faith-based organizations. The FBSAC serves strictly as an advisory body with the purpose of providing advice upon the request of the Secretary. The meeting will include:

(1) Remarks from Senior DHS leaders,

(2) Receipt, Discussion, and vote on three draft reports from the following: 1. Information Sharing Subcommittee; 2. DHS Grants and Resources Subcommittee; and 3. Building Partnerships Subcommittee. Additional information on the subcommittees can be found on the Faith-Based Security Advisory Council's website www.dhs.gov/faith-based-security-advisory-council.

Members of the public will be in listen-only mode except during the public comment sessions. Members of the public may register to participate in this Council meeting via web conference under the following procedures. Each individual must provide their full legal name and email address no later than 5:00 p.m. ET on Monday, June 5, 2023 to Sameer Hossain of the Council via email to FBSAC@hq.dhs.gov or via phone at 202-891-2876. Members of the public who have registered to participate will be provided the weblink after the closing of the public registration period and prior to the start of the meeting.

Dated: May 16, 2023.
Nicole M. Rosich,
Alternate Designated Federal Officer, Faith-Based Security Advisory Council, U.S. Department of Homeland Security.

[FR Doc. 2023-10757 Filed 5-18-23; 8:45 am]

BILLING CODE 9112-FN-P